DEPARTMENT OF DEFENSE

Department of the Navy

Notice of Intent To Prepare an Environmental Impact Statement for Stabilization of In-Water Facilities at the Fox Island Laboratory, Tacoma, WA and Public Scoping Meeting

AGENCY: Department of the Navy, DoD.

ACTION: Notice.

SUMMARY: Pursuant to Section 102(2)(c) of the National Environmental Policy Act (NEPA) of 1969, as implemented by the Council on Environmental Quality regulations (40 CFR parts 1500-1508), the Department of the Navy announces its intent to prepare an Environmental Impact Statement (EIS) to evaluate the potential environmental consequences of the stabilization of in-water facilities at the Naval Surface Warfare Center Carderock Division (NSWCCD) Fox Island Laboratory (FIL) near Tacoma, WA.

DATES AND ADDRESSES: A public scoping meeting will be held to receive oral and/or written comments on environmental concerns that should be addressed in the EIS. The public scoping meeting will be held on Wednesday, April 17, 2002, from 6:00 p.m. to 9:00 p.m. at the Nichol's Community Center, 690 9th Ave, Fox Island, WA. All written comments must be postmarked by May 17, 2002, and be mailed to: Commander, Engineering Field Activity, Northwest, Naval Facilities Engineering Command, 19917 7th Ave NE, Poulsbo, WA 98370, Attn: Code 05EC3.KK (Mrs. Kimberly Kler), telephone (360) 396-0927, fax (360) 396-0854, E-Mail klerkh@efanw.navfac.navy.mil.

FOR FURTHER INFORMATION CONTACT: Mr. William Baxley, (Code 0670), Naval Surface Warfare Center Carderock Division, 8010 North Ocean Drive, Dania, FL 33004; telephone (954) 926-4015, fax (954) 926-4031, E-Mail baxleywe@nswccd.navy.mil.

SUPPLEMENTARY INFORMATION: The NSWCCD FIL needs to provide stable and safe in-water facilities, in order to meet its mission requirements. The facility, consisting of four barges, a pier, and associated mooring components has sustained substantial weather-related damage and portions of the facility have reached a point of questionable structural integrity. The Navy proposes to either replace the barges with a more stable platform or repair the mooring structures. This project is required in order to continue the FIL mission in support of Navy programs, prevent additional damage to existing facilities, and improve personnel safety.

NSWCCD is currently evaluating several alternative methods of stabilizing the Fox Island Laboratory in-water assets. The NSWCCD preferred alternative is to replace mooring components and improve access to the in-water operational facilities through the installation of a 240-ft floating concrete pontoon platform further off-shore. Other alternatives include: installation of a 360-ft concrete pontoon platform, installation of a pile-supported pier, replacement of the mooring system while maintaining the current configuration, and the No Action alternative of maintaining the current mooring system and barge configuration.

The EIS will address the potential environmental impacts, as well as the potential effects on neighboring properties that may result from stabilization activities. These include, but are not limited to, adjacent shoreline post-project configurations, endangered and threatened species (salmon and trout), marine mammals, benthic communities (sea grasses), water quality, water views, and coastal zone management issues.

NSWCCD is initiating a scoping process to identify community concerns and local issues that will be addressed in the EIS. Federal, state, local agencies, and interested persons are encouraged to provide oral and/or written comments to NSWCCD to identify environmental concerns that they believe should be addressed in the EIS. NSWCCD will consider these comments in determining the scope of the EIS.

Dated: March 21, 2002.
T.J. Welsh,
Lieutenant Commander, Judge Advocate General's Corps, U.S. Navy, Federal Register Liaison Officer.

[FR Doc. 02-7475 Filed 3-27-02; 8:45 am]

BILLING CODE 3810-FF-P